DEPARTMENT OF THE INTERIOR

National Park Service

[NPS-WASO-NAGPRA-NPS0031782; PPWOCRADN0-PCU00RP14.R50000]

Notice of Inventory Completion: San Bernardino County Museum, Redlands, CA

AGENCY: National Park Service, Interior.

ACTION: Notice.

SUMMARY: The San Bernardino County Museum (SBCM) has completed an inventory of human remains and associated funerary objects, in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the San Bernardino County Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Bernardino County Museum at the address in this notice by May 27, 2021.

ADDRESSES: Tamara Serrao-Leiva, San Bernardino County Museum, 2024 Orange Tree Lane, Redlands, CA 92374, telephone (909) 798-8623, email tserrao-leiva@sbcm.sbcounty.gov.

SUPPLEMENTARY INFORMATION: Notice is here given in accordance with the Native American Graves Protection and Repatriation Act (NAGPRA), 25 U.S.C. 3003, of the completion of an inventory of human remains and associated funerary objects under the control of the San Bernardino County Museum, Redlands, CA. The human remains and associated funerary objects were removed from Riverside County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Bernardino County Museum professional staff in consultation with representatives of the Agua Caliente Band of Cahuilla Indians of the Agua Caliente Indian Reservation, California; Cahuilla Band of Indians [previously listed as Cahuilla Band of Mission Indians of the Cahuilla Reservation, California]; Morongo Band of Mission Indians, California [previously listed as Morongo Band of Cahuilla Mission Indians of the Morongo Reservation]; Pechanga Band of Luiseno Mission Indians of the Pechanga Reservation, California; and the Santa Rosa Band of Cahuilla Indians, California [previously listed as Santa Rosa Band of Cahuilla Mission Indians of the Santa Rosa Reservation]. The Augustine Band of Cahuilla Indians, California [previously listed as Augustine Band of Cahuilla Mission Indians of the Augustine Reservation]; Los Coyotes Band of Cahuilla and Cupeno Indians, California [previously listed as Los Coyotes Band of Cahuilla & Cupeno Indians of the Los Coyotes Reservation]; Ramona Band of Cahuilla, California [previously listed as Ramona Band or Village of Cahuilla Mission Indians of California]; and the Torres Martinez Desert Cahuilla Indians, California [previously listed as Torres-Martinez Band of Cahuilla Mission Indians of California] were invited to consult but did not participate. Hereafter, all the Indian Tribes listed above are referred to as “The Consulted and Invited Tribes.”

History and Description of the Remains

In 1933, human remains representing, at minimum, five individuals were removed from site CA-RIV-381 in Riverside County, CA, by Gerald Smith, a SBCM employee. The age and sex of the individuals is unknown. No known individuals were identified. The 16 associated funerary objects include: one lot of broken pottery, one lot of stone fragments, one lot of metal fragments, one lot of charcoal, one lot of purple glass, one lot of faunal, one lot of mixed worked stone, one lot historic ceramics, one lot of quartz tools, one lot of quartz fragments, one quartz mano, one lot of mixed burnt material, one lot of ecofacts, one lot of soil samples, one lot of unworked shell, and one shell bead.

CA-RIV-381, known as the Temecula Battlefield of 1847, is the site of a historic battle between the Cahuilla and the Luiseño, which resulted in the “Temecula Massacre.” It was first recorded in 1932, by J.P. Harrington together with his consultant Josefa Berdugo, a Luiseño woman who lived in Aguanga (located several miles to the south of RIV-381). In January 1980, the site was listed on the National Register of Historic Places. The Luiseño people call this place ∫óova. The Cahuilla, who also frequented this area, call this region “Paususe” (or “Paususit”) which, according to Nattie Costo of the Cahuilla Reservation, means “hot water.”

According to Pechanga oral tradition, this site and the surrounding area are affiliated with the Luiseño/Pechanga. Also, several published anthropological sources completed in consultation with the Luiseño people confirm that the site is within Luiseño traditional territory (Kroeber 1925:648; Oxedine 1983:11; Sparkman 1908:189; Strong 1929:275). Moreover, the California Native American Heritage Commission has named the Pechanga as the most likely descendant Indian Tribe for human remains removed from CA-RIV-381.

In October 1963, human remains representing, at minimum, one individual were removed by Paul Price from the Meadowbrook site (SBCM-607; CA-RIV-711, CA-RIV-713), just south of Good Hope Mine (site of the “Good Hope Mine” burial site), in Perris, Riverside County, CA. Dr. Niewoehner, a physical anthropologist at California State University, San Bernardino, who assisted SBCM in the inventory, identified a human phalanx and a metatarsal. No known individual was identified. The eight associated funerary objects include one lot of mixed faunal bone, one quartz point, one obsidian fragment, one basalt lithic tool, one chert lithic tool, one lot of faunal, one lot of quartz and chert lithic tool fragments, and one pendant.

The Meadowbrook site (CA-RIV-711) is part of the large village complex directly adjacent to the Pechanga Indian Reservation. It appears in a Sacred Lands File of the California Native American Heritage Commission as a Pechanga traditional cultural property. Moreover, the Native American Heritage Commission has named the Pechanga as the most likely descendant Indian Tribe for human remains removed from another location near CA-RIV-711.

In 1984, human remains representing, at minimum, one individual were removed from Tucalota-Rawson (SBCM-5497, CA-RIV-3015) in Riverside County, CA. On November 23, 1984, Gerald Smith recorded the discovery of cremation fragments and burned soil on an alluvial fan at Tucolata Creek, near previously recorded pictographs. According to the site record, “Tucalota Ranch is known as a village, and some `excavation' might have been conducted at that site.” The human remains—an ossicle from a cranium—belong to an individual of unidentified age and sex. No known individual was identified. The six associated funerary objects are one lot of ceramics, one lot of burnt ceramics, one piece of pumice, one lot of side notched and triangular projectile points, one stone pendant, and one lot of flaked stone (including quartz).

There is no information to establish a time-period for these human remains. CA-RIV-3015 lies within Luiseño Territory, and the Tucalota Ranch area appears in a Sacred Lands File of the California Native American Heritage Commission as a Pechanga traditional cultural property.

At an unknown date, human remains representing, at minimum, one individual were removed from an unidentified site in Temecula (UNN:174-188, No site number), Riverside County. A label accompanying the human remains states “Found in Temecula.” The SBCM has no record of how or when these human remains were acquired. They may have been part of a private donation from the Archaeological Survey Association that was active during the early years of the SBCM. The human remains—skull fragments and broken bone fragments in poor condition—belong to an individual of unknown age or sex. No known individual was identified. The five associated funerary objects are one lot of fabric, one lot of metal hooks, one lot of scrap metal, one lot of soil with imbedded beads, and one lot of turquoise beads.

There is little information to establish a time-period for these human remains. Based on geographical information, the SBCM has identified the remains as Pechanga.

Determinations Made by the San Bernardino County Museum

Personnel of the San Bernardino County Museum have determined that:

• Pursuant to 25 U.S.C. 3001(9), the human remains described in this notice represent the physical remains of eight individuals of Native American ancestry.

• Pursuant to 25 U.S.C. 3001(3)(A), the 35 objects described in this notice are reasonably believed to have been placed with or near individual human remains at the time of death or later as part of the death rite or ceremony.

• Pursuant to 25 U.S.C. 3001(2), there is a relationship of shared group identity that can be reasonably traced between the Native American human remains and associated funerary objects and the La Jolla Band of Luiseno Indians, California [previously listed as La Jolla Band of Luiseno Mission Indians of the La Jolla Reservation]; Pala Band of Mission Indians [previously listed as Pala Band of Luiseno Mission Indians of the Pala Reservation, California]; Pauma Band of Luiseno Mission Indians of the Pauma & Yuima Reservation, California; Pechanga Band of Luiseno Mission Indians of the Pechanga Reservation, California; Rincon Band of Luiseno Mission Indians of Rincon Reservation, California; and the Soboba Band of Luiseno Indians, California (hereafter referred to as “The Affiliated Tribes”).

Additional Requestors and Disposition

Lineal descendants or representatives of any Indian Tribe or Native Hawaiian organization not identified in this notice that wish to request transfer of control of these human remains and associated funerary objects should submit a written request with information in support of the request to Tamara Serrao-Leiva, San Bernardino County Museum, 2024 Orange Tree Lane, Redlands, CA 92373, telephone (909) 798-8623, email tserrao-leiva@sbcm.sbcounty.gov, by May 27, 2021. After that date, if no additional requestors have come forward, transfer of control of the human remains and associated funerary objects to The Affiliated Tribes may proceed.

The San Bernardino County Museum is responsible for notifying The Consulted and Invited Tribes and The Affiliated Tribes that this notice has been published.

Dated: April 19, 2021.
Melanie O'Brien,
Manager, National NAGPRA Program.

[FR Doc. 2021-08772 Filed 4-26-21; 8:45 am]

BILLING CODE 4312-52-P